ENVIRONMENTAL PROTECTION AGENCY

[ER-6699-1]

Environmental Impact Statements; Notice of Availability

Responsible Agency: Office of Federal Activities, General Information (202) 564-7167 or http://www.epa.gov/compliance/nepa/.

Weekly receipt of Environmental Impact Statements

Filed 05/12/2008 through 05/16/2008.

Pursuant to 40 CFR 1506.9.

EIS No. 20080193, draft EIS, AFS, AK, Spencer Mineral Materials Project, Proposal to Develop and Extract Quarry Rock and Gravel from a Mineral Materials Site near Spencer Glacier, Chugach National Forest, Kenal Borough, AK, Comment Period Ends: 07/07/2008, Contact: Alice Allen 605-673-4853.

EIS No. 20080194, draft EIS, SFW, TX, Williamson County Regional Habitat Conservation Plan, Application for an Incidental Take Permit, Williamson County, TX, Comment Period Ends: 07/15/2008, Contact: Adam Zerrenner 512-490-0057.

EIS No. 20080195, draft supplement, FHW, TN, Interstate 69 Segment of Independent Utility (SIU) #8, New Information for a New Crossover Alternative, from TN-385 in Millington, TN to I-155/US 51 in Dyersburg, TN, Funding, Shelby, Tipton, Lauderdale and Dyer Counties, TN, Comment Period Ends: 07/07/2008, Contact: Charles J. O'Neill 615-781-5772.

EIS No. 20080196, final EIS, NRC, KS, Generic—License Renewal of Nuclear Plants Regarding Wolf Creek Generating Station, (WCGS) Unit 1. Supplement 32 to NUREG 1437, Implementation, Coffey County, KS, Wait Period Ends:06/23/2008, Contact: Tam Tran 301-415-3617.

EIS No. 20080197, draft EIS, BLM, NV, Lincoln County Land Act (LCLA) Groundwater Development and Utility Right-of-Way Project, Implementation, To Grant a Right-of-Way Permit for Groundwater Development and Utility Facilities, Lincoln County, NV, Comment Period Ends: 07/21/2008, Contact: Penny Woods 775-861-6466.

EIS No. 20080198, final EIS, IBR, CA, Fish Passage Improvement Project, Red Bluff Diversion Dam (RBDD), Improvements of Anadromous Fish Passage both Upstream and Downstream, Tehama-Colusa Canal, RBDD to south of the Town of Dunnigan and Corning Canal, RBDD to south of the City of Corning, Funding, U.S. Army COE Section 10 and 404 Permits Issuance, Tehama, Glenn, Colusa, Yolo Counties, CA , Wait Period Ends: 07/07/2008, Contact: Don Reck 530-275-1554.

EIS No. 20080199, final supplement, BLM , AK, Northeast National Petroleum Reserve—Alaska Integrated Activity Plan, Updated Information, addressing the need for more Oil and Gas Production through Leasing Lands, Consideration of 4 Alternatives, North Slope Borough, AK, Wait Period Ends: 06/23/2008, Contact: Jim Ducker 907-271-3130.

EIS No. 20080200, draft EIS, AFS, UT, Dixie National Forest Motorized Travel Plan, Implementation, Dixie National Forest and the Teasdale portion of the Fremont River Ranger District on the Fishlake National Forest, Garfield, Iron, Kane, Piute, Washington and Wayne Counties, UT, Comment Period Ends: 07/07/2008, Contact: Andi Falsetto 435-896-9233.

EIS No. 20080201, final EIS, AFS, SD, Upper Spring Creek Project, Proposes to Implement Multiple Resource Management Actions, Mystic Ranger District, Black Hills National Forest, Pennington and Custer Counties, SD, Wait Period Ends: 06/23/2008, Contact: Katie Van Alstyne 605-343-1567.

EIS No. 20080202, draft EIS, COE, WI, Wisconsin Power and Light 300 MW Power Plant, Construction and Operation of a 300 Megawatt (MW) Baseload Coal-Fired Electric Generating Unit, Nelson Dewey Generating Station, near Cassville, Grant County, WI, Comment Period Ends: 07/07/2008, Contact: Jon K. Ahlness 651-290-5381.

EIS No. 20080203, draft EIS, UCG, 00, Dry Cargo Residue (DCR) Discharges in the Great Lakes, To Regulate Nonhazardous and Nontoxic DRC Sweeping from Vessels in the Great Lakes that Fall under the Jurisdiction of the United States, Comment Period Ends: 07/22/2008, Contact: Greg Kirkbride 202-372-1479.

Amended Notices

EIS No. 20060490, draft EIS, OSM, 00, Black Mesa Project, Revisions to the Life-of-Mine Operation and Reclamation for the Kayenta and Black Mesa Surface-Coal Mining Operations, Right-of-Way Grant, Mohave, Navajo, Coconino and Yavapai Counties, AZ and Clark County, NV, Comment Period Ends: 07/07/2008, Contact: Peter A. Rutledge 303-844-1400 Ext. 1440. Revision to FR Notice Published 12/01/2006: Reopening and Extending Comment Period from 02/06/2007 to 07/07/2008. EIS No. 20080159, Second Draft Supplement, NOA, 00, Atlantic Mackerel, Squid and Butterfish, Fishery Management Plan, Amendment No. 10, Develop a Rebuilding Program that Allows the Butterfish Stock to Rebuild in the Shortest Amount of Time Possible, Exclusive Economic Zone (EEZ) off the U.S. Atlantic Coast, Comment Period Ends: 06/23/2008, Contact: Patricia A. Kurkul 978-281-9250. Revision to FR Notice Published 05/02/2008: Extending Comment Period from 06/16/2008 to 06/23/2008.

Dated: May 20, 2008.
Robert W. Hargrove,
Director, NEPA Compliance Division, Office of Federal Activities.

[FR Doc. E8-11614 Filed 5-22-08; 8:45 am]

BILLING CODE 6560-50-P